DEPARTMENT OF DEFENSE

GENERAL SERVICES ADMINISTRATION

NATIONAL AERONAUTICS AND SPACE ADMINISTRATION

48 CFR Chapter 1

[Docket FAR 2010-0076, Sequence 2]

Federal Acquisition Regulation; Federal Acquisition Circular 2005-40; Introduction

AGENCIES: Department of Defense (DoD), General Services Administration (GSA), and National Aeronautics and Space Administration (NASA).

ACTION: Summary presentation of final rule.

SUMMARY: This document summarizes the Federal Acquisition Regulation (FAR) rule agreed to by the Civilian Agency Acquisition Council and the Defense Acquisition Regulations Council (Councils) in this Federal Acquisition Circular (FAC) 2005-40. A companion document, the Small Entity Compliance Guide (SECG), follows this FAC. The FAC, including the SECG, is available via the Internet at http://www.regulations.gov.

DATES: For effective date, see separate document, which follows.

FOR FURTHER INFORMATION CONTACT: The analyst whose name appears in the table below. Please cite FAC 2005-40 and the specific FAR case number. For information pertaining to status or publication schedules, contact the FAR Secretariat at (202) 501-4755.

Rule Listed in FAC 2005-40
Subject | FAR case | Analyst
Federal Awardee Performance and Integrity Information System (FAPIIS) | 2008-027 | Gary.

SUPPLEMENTARY INFORMATION: A summary for the FAR rule follows. For the actual revisions and/or amendments made by this FAR case, refer to FAR Case 2008-027.

FAC 2005-40 amends the FAR as specified below:

Federal Awardee Performance and Integrity Information System (FAPIIS) (FAR case 2008-027)

This final rule adopts, with changes, the proposed rule published in the Federal Register on September 3, 2009 (74 FR 45579); and amends the FAR to implement section 872 of the Duncan Hunter National Defense Authorization Act for Fiscal Year 2009. Section 872 requires the establishment of a data system, Federal Awardee Performance and Integrity Information System (FAPIIS), containing specific information on the integrity and performance of covered Federal agency contractors and grantees. FAPIIS is available for use in award decisions at www.ppirs.gov. Government input to FAPIIS is accomplished at www.cpars.csd.disa.mil.

FAPIIS is intended to significantly enhance the scope of information available to contracting officers as they evaluate the integrity and performance of prospective contractors competing for Federal contracts and to protect taxpayers from doing business with contractors that are not responsible sources. This final rule impacts Government contracting officers and contractors. The Government contracting officers will be required to—

• Check the FAPIIS website, available at www.ppirs.gov, before awarding a contract over the simplified acquisition threshold, consider all the information in FAPIIS and PPIRS when making a responsibility determination, and notify the agency official responsible for initiating debarment or suspension action if the information appears appropriate for the official's consideration; and

• Enter a non-responsibility determination into FAPIIS.

The contractor will be required to:

1. Confirm, at the time of offer submission, information pertaining to criminal, civil and administrative proceedings through which a requisite determination of fault was made, and report this information into FAPIIS; and

2. Update the information in FAPIIS on a semi-annual basis, throughout the life of the contract, by entering the required information into FAPIIS via the Central Contractor Registration database, available at http://www.ccr.gov.

Dated: March 18, 2010.
Al Matera,
Director, Acquisition Policy Division.

Federal Acquisition Circular

Federal Acquisition Circular (FAC) 2005-40 is issued under the authority of the Secretary of Defense, the Administrator of General Services, and the Administrator for the National Aeronautics and Space Administration.

Unless otherwise specified, all Federal Acquisition Regulation (FAR) and other directive material contained in FAC 2005-40 is effective April 22, 2010.

Dated: March 17, 2010.
Linda W. Neilson,
Deputy Director, Defense Procurement and Acquisition Policy (Defense Acquisition Regulation System).

Dated: March 16, 2010.
Rodney P. Lantier,
Acting Senior Procurement Executive, Office of Acquisition Policy, U.S. General Services Administration.

Dated: March 15, 2010.
William P. McNally,
Assistant Administrator for Procurement, National Aeronautics and Space Administration.

[FR Doc. 2010-6330 Filed 3-22-10; 8:45 am]

BILLING CODE 6820-EP-S